DEPARTMENT OF COMMERCE

National Oceanic and Atmospheric Administration

[RTID 0648-XB367]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 141st Scientific and Statistical Committee (SSC), Fishery Data Collection and Research Committee (FDCRC), Executive and Budget Standing Committee, and 187th Council meetings to take actions on fishery management issues in the Western Pacific Region.

DATES: The meetings will be held between September 14 and September 23, 2021. For specific times and agendas, see SUPPLEMENTARY INFORMATION.

ADDRESSES: The meetings will be held by web conference via WebEx. Instructions for connecting to the web conference and providing oral public comments will be posted on the Council website at www.wpcouncil.org. For assistance with the web conference connection, contact the Council office at (808) 522-8220.

The Council has arranged host sites only for the 187th Council meeting at the following venues: Cliff Pointe, 304 W. O'Brien Drive, Hagatna, Guam; BRI Building Suite 205, Kopa Di Oru St., Garapan, Saipan, CNMI; and, Tedi of Samoa Building Suite 208B, Fagatogo Village, American Samoa.

FOR FURTHER INFORMATION CONTACT: Contact Kitty M. Simonds, Executive Director, Western Pacific Fishery Management Council; phone: (808) 522-8220.

SUPPLEMENTARY INFORMATION: All times shown are in Hawaii Standard Time. The 141st SSC meeting will be held between 11 a.m. and 5 p.m. on September 14-16, 2021. The Fishery Data Collection and Research Committee will be held between 12:30 p.m. and 2:30 p.m. on September 20, 2021. The Executive and Budget Standing Committee meeting will be held between 3:30 p.m. and 5:30 p.m. on September 20, 2021. The 187th Council meeting will be held between 11 a.m. and 5 p.m. on September 21-23, 2021.

Please note that the evolving public health situation regarding COVID-19 may affect the conduct of the September Council and its associated meetings. At the time this notice was submitted for publication, the Council anticipated convening the meeting by web conference with host site locations in Guam, CNMI and American Samoa only for the 187th Council meeting. Council staff will monitor COVID-19 developments and will determine the extent to which in-person public participation at host sites will be allowable consistent with applicable local and federal safety and health guidelines. If public participation will be limited to web conference only or on a first-come-first-serve basis consistent with applicable guidelines, the Council will post notice on its website at www.wpcouncil.org.

Agenda items noted as “Final Action” refer to actions that may result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 187th Council meeting will be available at www.wpcouncil.org. Written public comments on final action items at the 187th Council meeting should be received at the Council office by 5 p.m. HST, September 17, 2021, and should be sent to Kitty M. Simonds, Executive Director; Western Pacific Fishery Management Council, 1164 Bishop Street, Suite 1400, Honolulu, HI 96813, phone: (808) 522-8220 or fax: (808) 522-8226; or email: info.wpcouncil@noaa.gov. Written public comments on all other agenda items may be submitted for the record by email throughout the duration of the meeting. Instructions for providing oral public comments during the meeting will be posted on the Council website. This meeting will be recorded (audio only) for the purposes of generating the minutes of the meeting.

Agenda for the 141st Scientific and Statistical Committee Meeting

Tuesday, September 14, 2021, 11 a.m. to 5 p.m.

1. Introductions

2. Approval of Draft Agenda and Assignment of Rapporteurs

3. Status of the 140th SSC Meeting Recommendations

4. Report from Pacific Islands Fisheries Science Center Director

5. Program Planning and Research

A. Essential Fish Habitat (EFH) Model for the Main Hawaiian Island (MHI) Uku

B. Report on the Bottomfish Fishery in the Opened Bottomfish Restricted Fishing Areas (BRFA)

C. American Samoa Bottomfish Stock Assessment Improvement Plan

D. Review of the Magnuson-Stevens Act (MSA) Five-Year Research Priorities

E. Potential MSA Reauthorization Provisions Affecting the SSC

F. SSC Three-Year Plan

G. Public Comment

H. SSC Discussion and Recommendations

6. Protected Species

A. Hawaii Longline Fishery Seabird Mitigation Measures

1. Results of the Tori Line Experimental Fishing Permit Study in the Hawaii Deep-set Longline Fishery

2. Options for Revising Seabird Mitigation Measures in the Hawaii Deep-set Longline Fishery (Action Item)

B. SSC Working Group Issues Paper on Alternative Approaches to Reduce Impacts to False Killer Whales

C. Endangered Species Act (ESA) Consultations for the Hawaii Deep-set Longline Fishery, American Samoa Longline Fishery, and Bottomfish Fisheries

D. ESA and Marine Mammal Protection Act (MMPA) Updates

E. Public Comment

F. SSC Discussion and Recommendations

Wednesday, September 15, 2021, 11 a.m. to 5 p.m.

7. Pelagic Fisheries

A. Update on Southwest Fisheries Science Center Pelagic Fisheries Research

B. Investigating the Impact of Imports on the Hawaii Fish Market

C. Shark Depredation in the Mariana Archipelago

D. Review of Impacts of the Papahānaumokuākea Marine National Monument Expansion

E. Suitability of a Depletion-Based Limit Reference Point versus Maximum Sustainable Yield for Highly Productive Pelagic Stocks

F. International Fisheries

1. Inter-American Tropical Tuna Commission (IATTC) Science Advisory Committee

2. Report of the 2021 International Scientific Committee (ISC) Plenary

3. Outcomes of the 17th Western-Central Pacific Fisheries Commission (WCPFC) Science Committee

4. Outcomes of the 2nd Tropical Tuna Workshop

G. Public Comment

H. SSC Discussion and Recommendations

Thursday, September 16, 2021, 11 a.m. to 5 p.m.

8. Other Business

A. November 30-December 2, 2021 SSC Meeting Dates

9. Summary of SSC Recommendations to the Council

Agenda for the Fishery Data Collection and Research Committee

Monday, September 20, 2021, 12:30 p.m. to 2:30 p.m.

1. Welcome Remarks and Introductions

2. FDCRC Strategic Plan 2022-26

3. Report on the Catchit Logit Implementation

4. Critical Role of Mandatory License and Reporting Regulation

5. Transfer of Catchit Logit Implementation to Territorial Agencies

A. Transition Plan

B. Timeline

6. Public Comment

7. Other Business

8. Discussions and Recommendations

Agenda for the Executive and Budget Standing Committee

Monday, September 20, 2021, 3:30 p.m. to 5:30 p.m.

1. Financial Reports

2. Administrative Reports

3. Huffman MSA Reauthorization

4. Council Family Changes

5. Meetings and Workshops

6. Other Issues

7. Public Comment

8. Discussion and Recommendations

Agenda for the 187th Council Meeting

Tuesday, September 21, 2021, 11 a.m. to 5 p.m.

1. Welcome and Introductions

2. Oath of Office

3. Approval of the 187th Agenda

4. Approval of the 186th Meeting Minutes

5. Executive Director's Report

6. Agency Reports

A. National Marine Fisheries Service

1. Pacific Islands Regional Office

2. Pacific Islands Fisheries Science Center

B. NOAA Office of General Counsel Pacific Islands Section

C. Enforcement

1. U.S. Coast Guard

2. NOAA Office of Law Enforcement

3. NOAA Office of General Counsel Enforcement Section

D. U.S. State Department

E. U.S. Fish and Wildlife Service

F. Public Comment

G. Council Discussion and Action

7. Program Planning and Research

A. National Legislative Report

1. Huffman MSA Reauthorization

2. Advisory Group Review of the MSA Reauthorization

B. Standardized Bycatch Reporting Methodology & Fishery Ecosystem Plan Amendments for Updating Consistency (Final Action)

C. Regional Research Priorities and Plans

D. FDCRC Strategic Plan

E. SSC Three-Year Plan

F. Review of Council Aquaculture Management and Programmatic Environmental Impact Statement Update

G. Regional Communications & Outreach Report

H. Advisory Group Report and Recommendations

1. Advisory Panel

2. Fishing Industry Advisory Committee

3. Non-Commercial Fishing Advisory Committee

4. Fishery Data Collection and Research Committee

5. Scientific & Statistical Committee

I. Public Comment

J. Council Discussion and Action

Tuesday, September 21, 2021, 4:30 p.m. to 5 p.m.

Public Comment on Non-Agenda Items

Wednesday, September 22, 2021, 11 a.m. to 5 p.m.

8. Mariana Archipelago

A. Guam

1. Isla Informe

2. Department of Agriculture/Division Aquatic and Wildlife Resources Report

B. CNMI

1. Arongol Falú

2. Department Land Natural Resources (DLNR)/Division Fish and Wildlife Report

C. Shark Depredation in the Mariana Archipelago

D. Advisory Group Report and Recommendations

1. Advisory Panel

2. Fishing Industry Advisory Committee

3. Non-Commercial Fishing Advisory Committee

4. Scientific & Statistical Committee

E. Public Comment

F. Council Discussion and Action

9. Protected Species

A. Hawaii Longline Fishery Seabird Mitigation Measures

1. Results of the Tori Line Experimental Fishing Permit Study in the Hawaii Deep-set Longline Fishery

2. Options for Revising Seabird Mitigation Measures in the Hawaii Deep-set Longline Fishery (Initial Action)

B. SSC Working Group Issues Paper on Alternative Approaches to Reduce Impacts to False Killer Whales

C. Green Turtle Management

D. ESA Consultations for the Hawaii Deep-set Longline Fishery, American Samoa Longline Fishery, and Bottomfish Fisheries

E. ESA and MMPA Updates

F. Advisory Group Report and Recommendations

1. Advisory Panel

2. Fishing Industry Advisory Committee

3. Non-Commercial Fishing Advisory Committee

4. Scientific & Statistical Committee

G. Public Comment

H. Council Discussion and Action

10. American Samoa Archipelago

A. Motu Lipoti

B. Department of Marine and Wildlife Resources Report

C. American Samoa Bottomfish Fishery

1. Bottomfish Management Unit Species Rebuilding Plan (Final Action)

2. Territorial Bottomfish Fishery Management Plan

3. Bottomfish Community Development Program Request

4. Bottomfish Stock Assessment Improvement Process

D. Advisory Group Report and Recommendations

1. Advisory Panel

2. Fishing Industry Advisory Committee

3. Non-Commercial Fishing Advisory Committee

4. Scientific & Statistical Committee

E. Public Comment

F. Council Discussion and Action

Thursday, September 23, 2021, 11 a.m. to 5 p.m.

11. Pelagic and International Fisheries

A. American Samoa Large Vessel Prohibited Area Monitoring

B. Investigating the Impact of Imports on the Hawaii Fish Market

C. Review of Impacts to the Hawaii Longline Fishery from the Papahānaumokuākea Marine National Monument Expansion

D. International Fisheries

1. IATTC Science Advisory Committee

2. Report of the 2021 ISC Plenary

3. Outcomes of the 17th WCPFC Science Committee

4. Defining Purse Seine Vessels of American Samoa

5. Outcomes of the 2nd Tropical Tuna Workshop

6. Permanent Advisory Committee

E. Advisory Group Report and Recommendations

1. Advisory Panel

2. Fishing Industry Advisory Committee

3. Non-Commercial Fishing Advisory Committee

4. Scientific & Statistical Committee

F. Public Comment

G. Council Discussion and Action

12. Hawai`i Archipelago & Pacific Remote Island Areas (PRIA)

A. Moku Pepa

B. DLNR/Division of Aquatic Resources Report (Legislation, Enforcement, Bottomfish Management including BRFA)

C. Specifying Annual Catch Limits for the Main Hawaiian Islands Uku Fishery (Final Action)

D. EFH Model for the Main Hawaiian Island Uku

E. Northwestern Hawaiian Islands Proposed National Marine Sanctuary Update

F. Advisory Group Report and Recommendations

1. Advisory Panel

2. Fishing Industry Advisory Committee

3. Non-Commercial Fishing Advisory Committee

4. Scientific & Statistical Committee

G. Public Comment

H. Council Discussion and Action

13. Administrative Matters

A. Financial Reports

B. Administrative Reports

C. Council Family Changes

D. Meetings and Workshops

E. Standing Committee Report

F. Public Comment

G. Council Discussion and Action

14. Other Business

Non-emergency issues not contained in this agenda may come before the Council for discussion and formal Council action during its 187th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: August 23, 2021.
Tracey L. Thompson,
Acting Deputy Director, Office of Sustainable Fisheries, National Marine Fisheries Service.

[FR Doc. 2021-18409 Filed 8-25-21; 8:45 am]

BILLING CODE 3510-22-P